DEPARTMENT OF HEALTH AND HUMAN SERVICES

National Institutes of Health

Submission for OMB Review; 30-Day Comment Request; Specimen Resource Locator (National Cancer Institute)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Joanne Demchok, Program Director, Cancer Diagnosis Program, Division of Cancer Treatment and Diagnosis, 9609 Medical Center Drive, Rockville, Md. 20892 or call non-toll-free number 240-276-5959 or Email your request, including your address to: peterjo@mail.nih.gov.

SUPPLEMENTARY INFORMATION: This proposed information collection was previously published in the Federal Register on April 12, 2023, page 22049 (Vol. 88, No. 70 FR 22049) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Specimen Resource Locator, OMB #0925-0703: Expiration Date 11/30/2023, EXTENSION, National Cancer Institute (NCI), National Institutes of Health (NIH).

Need and Use of Information Collection: The availability of specimens and associated data is critical to increasing our knowledge of cancer biology and translating important research discoveries to clinical applications. The discovery and validation of cancer prevention markers require access, by researchers, to quality clinical biospecimens. In response to this need, the National Cancer Institute's (NCI) Cancer Diagnosis Program has developed and is expanding a searchable database: Specimen Resource Locator (SRL). The SRL allows scientists in the research community and the NCI to locate specimens needed for their research. The SRL will list all NCI-supported repositories and their links. This administrative submission is an online form that will collect information to manage and improve a program and its resources for the use of all scientists. This submission does not involve any analysis.

OMB approval is requested for 3 years. There are no costs to respondents other than their time. The total estimated annualized burden hours are 105.

Estimated Annualized Burden Hours
Type of respondent | Form name | Number of respondents | Number of responses per respondent | Average burden per response (in hours) | Total burden hour
Private Sector | Initial Request | 70 | 1 | 30/60 | 35
State Government |  | 70 | 1 | 30/60 | 35
Federal Government |  | 60 | 1 | 30/60 | 30
Private Sector | Annual Update | 20 | 1 | 5/60 | 2
State Government |  | 20 | 1 | 5/60 | 2
Federal Government |  | 10 | 1 | 5/60 | 1
Total |  | 250 |  |  | 105

Dated: June 14, 2023.
Diane Kreinbrink,
Project Clearance Liaison, National Cancer Institute, National Institutes of Health.

[FR Doc. 2023-13082 Filed 6-16-23; 8:45 am]

BILLING CODE 4140-01-P